ENVIRONMENTAL PROTECTION AGENCY

40 CFR Part 52

[PA4127a; FRL-7030-9]

Approval and Promulgation of Air Quality Implementation Plans; Pennsylvania; VOC and NOX RACT Determinations for Eight Individual Sources in the Pittsburgh-Beaver Valley Area

AGENCY: Environmental Protection Agency (EPA).

ACTION: Direct final rule.

SUMMARY: EPA is taking direct final action to approve revisions to the Commonwealth of Pennsylvania's State Implementation Plan (SIP). The revisions were submitted by the Pennsylvania Department of Environmental Protection (PADEP) to establish and require reasonably available control technology (RACT) for eight major sources of volatile organic compounds (VOC) and nitrogen oxides ( NOX). These sources are located in the Pittsburgh-Beaver Valley ozone nonattainment area (the Pittsburgh area). EPA is approving these revisions to establish RACT requirements in the SIP in accordance with the Clean Air Act (CAA).

DATES: This rule is effective on September 27, 2001 without further notice, unless EPA receives adverse written comment by September 12, 2001. If EPA receives such comments, it will publish a timely withdrawal of the direct final rule in the Federal Register and inform the public that the rule will not take effect.

ADDRESSES: Written comments should be mailed to David L. Arnold, Chief, Air Quality Planning & Information Services Branch, Air Protection Division, Mailcode 3AP21, U.S. Environmental Protection Agency, Region III, 1650 Arch Street, Philadelphia, Pennsylvania 19103. Copies of the documents relevant to this action are available for public inspection during normal business hours at the Air Protection Division, U.S. Environmental Protection Agency, Region III, 1650 Arch Street, Philadelphia, Pennsylvania 19103; the Air and Radiation Docket and Information Center, U.S. Environmental Protection Agency, 401 M Street, SW, Washington, DC 20460; and the Pennsylvania Department of Environmental Protection, Bureau of Air Quality Control, P.O. Box 8468, 400 Market Street, Harrisburg, Pennsylvania 17105; and the Allegheny County Health Department, Bureau of Environmental Quality, Division of Air Quality, 301 39th Street, Pittsburgh, Pennsylvania 15201.

FOR FURTHER INFORMATION CONTACT: Catherine Magliocchetti (215) 814-2174, or Ellen Wentworth (215) 814-2034 at the EPA Region III address above or by e-mail at magliocchetti.catherine@epa.gov. or wentworth.ellen@epa.gov. Please note that while questions may be posed via telephone and e-mail, formal comments must be submitted, in writing, as indicated in the ADDRESSES section of this document.

SUPPLEMENTARY INFORMATION:

I. Background

Pursuant to sections 182(b)(2) and 182(f) of the Clean Air Act (CAA), the Commonwealth of Pennsylvania (the Commonwealth or Pennsylvania) is required to establish and implement RACT for all major VOC and NOX sources. The major source size is determined by its location, the classification of that area and whether it is located in the ozone transport region (OTR). Under section 184 of the CAA, RACT as specified in sections 182(b)(2) and 182(f)) applies throughout the OTR. The entire Commonwealth is located within the OTR. Therefore, RACT is applicable statewide in Pennsylvania.

State implementation plan revisions imposing reasonably available control technology (RACT) for three classes of VOC sources are required under section 182(b)(2). The categories are:

(1) All sources covered by a Control Technique Guideline (CTG) document issued between November 15, 1990 and the date of attainment;

(2) All sources covered by a CTG issued prior to November 15, 1990; and

(3) All major non-CTG sources. The regulations imposing RACT for these non-CTG major sources were to be submitted to EPA as SIP revisions by November 15, 1992 and compliance required by May of 1995.

The Pennsylvania SIP already includes approved RACT regulations for all sources and source categories covered by the CTGs. On February 4, 1994, PADEP submitted a revision to its SIP to require major sources of NOX and additional major sources of VOC emissions (not covered by a CTG) to implement RACT. The February 4, 1994 submittal was amended on May 3, 1994 to correct and clarify certain presumptive NOX RACT requirements. In the Pittsburgh area, a major source of VOC is defined as one having the potential to emit 50 tons per year (tpy) or more, and a major source of NOX is defined as one having the potential to emit 100 tpy or more. Pennsylvania's RACT regulations require sources, in the Pittsburgh area, that have the potential to emit 50 tpy or more of VOC and sources which have the potential to emit 100 tpy or more of NOX comply with RACT by May 31, 1995. The regulations contain technology-based or operational “presumptive RACT emission limitations” for certain major NOX sources. For other major NOX sources, and all major non-CTG VOC sources (not otherwise already subject to RACT under the Pennsylvania SIP), the regulations contain a “generic” RACT provision. A generic RACT regulation is one that does not, itself, specifically define RACT for a source or source categories but instead allows for case-by-case RACT determinations. The generic provisions of Pennsylvania's regulations allow for PADEP to make case-by-case RACT determinations that are then to be submitted to EPA as revisions to the Pennsylvania SIP.

On March 23, 1998 EPA granted conditional limited approval to the Commonwealth's generic VOC and NOX RACT regulations (63 FR 13789). In that action, EPA stated that the conditions of its approval would be satisfied once the Commonwealth either (1) certifies that it has submitted case-by-case RACT proposals for all sources subject to the RACT requirements currently known to PADEP; or (2) demonstrate that the emissions from any remaining subject sources represent a de minimis level of emissions as defined in the March 23, 1998 rulemaking. On April 22, 1999, PADEP made the required submittal to EPA certifying that it had met the terms and conditions imposed by EPA in its March 23, 1998 conditional limited approval of its VOC and NOX RACT regulations by submitting 485 case-by-case VOC/NOX RACT determinations as SIP revisions and making the demonstration described as condition 2, above. EPA determined that Pennsylvania's April 22, 1999 submittal satisfied the conditions imposed in its conditional limited approval published on March 23, 1998. On May 3, 2001 (66 FR 22123), EPA published a rulemaking action removing the conditional status of its approval of the Commonwealth's generic VOC and NOX RACT regulations on a statewide basis. The regulation currently retains its limited approval status. Once EPA has approved the case-by-case RACT determinations submitted by PADEP to satisfy the conditional approval for subject sources located in Allegheny, Armstrong, Beaver, Butler, Fayette, Washington, and Westmoreland Counties; the limited approval of Pennsylvania's generic VOC and NOX RACT regulations shall convert to a full approval for the Pittsburgh area.

It must be noted that the Commonwealth has adopted and is implementing additional “post RACT requirements” to reduce seasonal NOX emissions in the form of a NOX cap and trade regulation, 25 Pa Code Chapters 121 and 123, based upon a model rule developed by the States in the OTR. That rule's compliance date is May 1999. That regulation was approved as SIP revision on June 6, 2000 (65 FR 35842). Pennsylvania has also adopted regulations to satisfy Phase I of the NOX SIP call and submitted those regulations to EPA for SIP approval. Pennsylvania's SIP revision to address the requirements of the NOX SIP Call Phase I consists of the adoption of Chapter 145—Interstate Pollution Transport Reduction and amendments to Chapter 123—Standards for Contaminants. On May 29, 2001 (66 FR 29064), EPA proposed approval of the Commonwealth's NOX SIP call rule SIP submittal. EPA expects to publish the final rulemaking in the Federal Register in the near future. Federal approval of a case-by-case RACT determination for a major source of NOX in no way relieves that source from any applicable requirements found in 25 PA Code Chapters 121, 123 and 145.

On August 1, 1995, December 8, 1995, April 16, 1996, July 1, 1997, July 2, 1997, January 21, 1997, and February 2, 1999, PADEP submitted revisions to the Pennsylvania SIP which establish and impose RACT for several major sources of VOC and/or NOX. This rulemaking pertains to eight of those sources. The RACT determinations for the other sources are, or have been, the subject of separate rulemakings. The Commonwealth's submittals consist of Operating Permits (OP) issued by PADEP, and an Enforcement Order (EO) issued by the Allegheny County Health Department (ACHD). These OPs, and EOs impose VOC and/or NOX RACT requirements for each source. These sources are all located in the Pittsburgh area.

II. Summary of the SIP Revisions

The table below identifies the sources and their respective OPs, and EOs which are the subject of this rulemaking. A summary of the VOC and NOX RACT determinations for each source follows the table.

Pennsylvania—VOC and NOX RACT Determinations for Individual Sources
Source | County | OP # or EO # | Source type | Pollutant
Consolidated Natural Gas Transmission Corporation—South Oakford Station | Westmoreland | OP 65-000-840 | Internal Combustion Engine | NOX/VOC
Consolidated Natural Gas Transmission Corporation—Tonkin Station | Westmoreland | OP 65-000-634 | Natural Gas Fired Engines | NOX/VOC
Carnegie Natural Gas Company—Creighton Station | Allegheny | EO 213 | Combustion Units | NOX/VOC
Consolidated Natural Gas Transmission Corporation—Beaver Station | Beaver | OP 04-000-490 | Generator, Boiler and 4 Engines | NOX/VOC
Consolidated Natural Gas Transmission Corporation—Jeannette Station | Westmoreland | OP 65-000-852 | Internal Combustion Engines | NOX/VOC
Consolidated Natural Gas Transmission Corporation—South Bend Station | Armstrong | OP 03-000-180 | Internal Combustion Engines | NOX/VOC
Consolidated Natural Gas Transmission Corporation—Oakford Station | Westmoreland | OP 65-000-837 | Internal Combustion Engines | NOX/VOC
Texas Eastern Transmission Corporation—Uniontown Station | Fayette | OP 26-000-413 | Internal Combustion Engines | NOX/VOC

(1) Consolidated Natural Gas Transmission Corporation—South Oakford Station

Consolidated Natural Gas Transmission Corporation's South Oakford Station is located in Hempfield Township, Pennsylvania. Consolidated Natural Gas Transmission Corporation's South Oakford Station is a major source of NOX and VOC. The PADEP issued OP 65-000-840 to impose RACT on the internal combustion engines at this source. Consolidated Natural Gas Transmission Corporation is required to have INOX plasma ignition systems on two (2) Cooper 14W-330 internal combustion engines at the South Oakford Station. Operating permit 65-000-840 requires the two (2) Cooper 14W-330 internal combustion engines to meet NOX emission limits of 125.99 lbs/hr and 551.8 tons per year (tpy). The non-methane volatile organic carbon (NMVOC) limits for these engines are 28.0 lbs/hr and 122.6 tpy. The following sources at the facility must implement SIP-approved presumptive RACT requirements in accordance with 25 PA Code 129.93 (c)(1) : one (1) BS&B 62212 with a 2.0 MMBtu/hr rating; and one (1) Ajax WGEFD-4000 with a 4.0 MMBtu/hr rating. Consolidated Natural Gas Transmission Corporation is required to operate and maintain the above sources at the South Oakford Station in accordance with good air pollution control practices in accordance with the above citations.

Consolidated Natural Gas Transmission Corporation is required to perform stack testing at the South Oakford Station in accordance with 25 PA Code section 139. A minimum of one stack test is required every five years to verify the emission rates for NOX and NMVOC. Testing shall be performed while engines are operating at full load, full speed, during the ozone season (April to October). All engines operating 750 hours or more during the preceding ozone season shall be stack tested semi-annually to verify the rates of NOX and NMVOC through either an EPA Method stack test or through the use of portable monitors. All engines operating less than 750 hours during the preceding ozone season shall be stack tested annually to verify the rates of NOX and NMVOC through either an EPA Method stack test or through the use of portable monitors. The accuracy of the portable analyzer readings shall be verified during the EPA method stack testing. Consolidated Natural Gas Transmission Corporation is required to submit operating procedures for testing protocols, pretest protocols, notice to the PADEP that a stack test is to be performed (so that an observer may be present), and two copies of the stack test results to the PADEP. The source shall maintain records in accordance with the record keeping requirements of 25 PA Code section 129.95, and retain records for at least two years. At a minimum, the source must record operating hours, daily fuel consumption, operating pressures, and operating temperatures for each engine.

All annual limits must be met on a rolling monthly basis over every consecutive 12 months. Consolidated Natural Gas Transmission Corporation's South Oakford Station is also subject to additional post-RACT requirements to reduce NOX found at 25 PA Code, Chapters 121, 123 and 145.

(2) Consolidated Natural Gas Transmission Corporation—Tonkin Station

Consolidated Natural Gas Transmission Corporation's Tonkin Station is located in Murrysville, Pennsylvania. Tonkin Station is a major source of NOX and VOC. The PADEP issued OP 65-000-634 to impose RACT on the natural gas fired engines at this source. Consolidated Natural Gas Transmission Corporation is required to limit NOX emissions from the Cooper 12W-330 engine to 39.68 lbs/hr and 173.8 tpy. The NMVOC limits for this engine are 6.6 lbs/hr and 28.9 tpy. The NOX emissions from the Waukesha L-5790-550 engine are limited to 8.82 lbs/hr and 38.6 tpy. The Cleaver-Brooks CB-700-800 Boiler, with a 3.3 MMBtu/hr rating, is subject to SIP-approved presumptive RACT requirements in accordance with 25 PA Code 29.93 (c)(1). Consolidated Natural Gas Transmission Corporation is required to operate and maintain these sources in accordance with good air pollution control practices.

Consolidated Natural Gas Transmission Corporation's Tonkin Station is required to perform stack testing in accordance with 25 PA Code section 139. A minimum of one stack test is required every five years to verify the emission rates for NOX and NMVOC. Testing shall be performed while engines are operating at full load, full speed, during the ozone season (April to October). All engines operating 750 hours or more during the preceding ozone season shall be stack tested semi-annually to verify the rates of NOX and NMVOC through either an EPA Method stack test or through the use of portable monitors. All engines operating less than 750 hours during the preceding ozone season shall be stack tested annually to verify the rates of NOX and NMVOC through either an EPA Method stack test or through the use of portable monitors. The accuracy of the portable analyzer readings shall be verified during the EPA method stack testing. Consolidated Natural Gas Transmission Corporation is required to submit operating procedures for testing protocols, pretest protocols, notice to the PADEP that a stack test is to be performed (so that an observer may be present), and two copies of the stack test results to the PADEP for the Tonkin Station. The source is required to maintain records in accordance with the record keeping requirements of 25 PA Code section 129.95. The source shall retain records for at least two years. At a minimum, the source must record operating hours, daily fuel consumption, operating pressures, and operating temperatures for each engine.

All annual limits must be met on rolling monthly basis over every consecutive 12 months.

Consolidated Natural Gas Transmission Corporation's Tonkin Station is also subject to additional post-RACT requirements to reduce NOX found at 25 PA Code, Chapters 121, 123 and 145.

(3) Carnegie Natural Gas Company—Creighton Station

Carnegie Natural Gas Company's Creighton Station is located in Creighton, Pennsylvania. Carnegie Natural Gas Company's Creighton Station is a major source of NOX and VOC. In this instance, RACT has been established and imposed by the ACHD in EO 213. The PADEP submitted this EO to EPA on behalf of the ACHD as a SIP revision. The ACHD issued EO 213 to impose RACT on subject combustion units at the facility. The permit for Creighton Station requires an I NOX Plasma Ignition System, for the purpose of reducing both NOX and VOC emissions on both subject combustion units at the facility. For the #1 Cooper-Bessemer GMVH-6, there is a NOX limit of 3.0 g/bhp/hr and a VOC limit of 2.0 g/bhp/hr. The annual NOX limit for this unit is 39.5 tpy, and the annual VOC limit is 26.5 tpy. For the #2 Cooper-Bessemer GMVH-6, the same limits apply. The annual facility wide emission limit for NOX is 79.0 tpy, and the annual facility wide emission limit for VOC is 53.0 tpy.

Consolidated Natural Gas Transmission Corporation is required to perform testing to demonstrate compliance no less than once every five years on each unit. The emission tests shall be conducted in accordance with all applicable EPA approved test methods and section 2108.02 of Article XXI of Allegheny County's regulations. No less than twice a year, the source shall perform NOX and VOC emission testing to demonstrate compliance with the emission limitations referenced above. Such emission test shall be conducted using a portable analyzer with each unit operating at maximum load, maximum speed, and performed between April 1 and October 31 of each year. The source shall conduct these tests in accordance with section 2108.02 of Article XXI. The source shall maintain all appropriate records to demonstrate compliance with the requirements of both section 2105.06 of Article XXI and EO 213. The source is required to record such data and information required to determine compliance for the facility, in a time frame consistent with the averaging period of the requirements of section 2105.06 of Article XXI and EO 213. The source shall retain all records required by both section 2105.06 of Article XXI and EO 213 for at least two years. The source shall at all times properly operate and maintain all process and emission control equipment according to good engineering practices.

All annual limits must be met on rolling monthly basis over every consecutive 12 months. Carnegie Natural Gas Company's Creighton Station is also subject to additional post-RACT requirements to reduce NOX found at 25 PA Code, Chapters 121, 123 and 145.

(4) Consolidated Natural Gas Transmission Corporation—Beaver Station

Consolidated Natural Gas Transmission Corporation's Beaver Station is located in New Sewickly Township, Pennsylvania. Consolidated Natural Gas Transmission Corporation Beaver Station is a major source of NOX and VOC. The PADEP issued OP 04-000-490 to impose RACT on the generator, boiler, and four engines at Beaver Station. The Caterpiller 351251TA generator, with a 778 HP rating, is subject to a NOX limit of 3.4 lbs/hr, and a VOC limit of 0.03 lbs/hr. The Ajax WGFD-8500 boiler, with an 8.5 MMBtu/hr rating, is subject to NOX limits of 1.5 lbs/hr and 6.6 tpy and to VOC limits of 0.04 lbs/hr and 0.2 tpy. The four (4) Dresser Rand TLAD-8 engines, with 3200 HP ratings, are subject to NOX limits of 14.1 lbs/hr and 61.8 tpy, and to VOC limits of 5.6 lbs/hr and 24.6 tpy. This permit requires Consolidated Natural Gas Transmission Corporation to install, operate and maintain all units in accordance with manufacturer's specifications, and in accordance with good air pollution control practice. The auxiliary generator at this facility shall be operated for emergency purposes only, except that it may be operated for non-emergency purposes for up to 250 hours per year. All other units at this facility may be operated continuously.

The source is required to track and record hours of operation, natural gas consumption rate, portable analyzer results, and all maintenance and repair operations performed on the equipment at this station to comply with the record keeping requirements of PA Code, Title 25, Chapter 129.95. Stack testing shall be performed using EPA methods, and in accordance with PA Code, Title 25, Chapter 139 and the PADEP Source Testing Manual, on the four Dresser Rand engines to verify emission rates during the ozone season (April through October) at least once every five years. Fuel consumption rate, engine operation parameters, and portable analyzer readings shall be recorded during the duration of the stack tests. Tests shall be conducted while the engine is running at full load. Under this permit, the source is required to submit pre-test protocols, notify the PADEP prior to stack testing (so that an observer may be present), and submit two copies of the stack test results to the PADEP. Stack testing using a portable analyzer shall be performed one time each year on the exhaust from each TLAD-8 engine. Engines that operated for more than 750 hours during the previous ozone season shall be stack tested using portable analyzers two times each year, to verify the rate of emissions. The source is required to submit a complete portable analyzer operating procedure to the PADEP. The accuracy of the portable analyzer readings shall be verified during the EPA method stack testing. Results of these tests shall be retained and made available upon request to the PADEP.

All annual limits must be met on rolling monthly basis over every consecutive 12 months. Consolidated Natural Gas Transmission Corporation's Beaver Station is also subject to additional post-RACT requirements to reduce NOX found at 25 PA Code, Chapters 121, 123 and 145.

(5) Consolidated Natural Gas Transmission Corporation—Jeannette Station

Consolidated Natural Gas Transmission Corporation's Jeannette Station is located in Penn Township, Pennsylvania. Consolidated Natural Gas Transmission Corporation's Jeannette Station is a major source of NOX and VOC. The PADEP issued OP 65-000-852 to impose RACT on the internal combustion engines at this source. The permit for the Jeannette Station requires ignition timing retard technology on three (3) Ingersoll Rand (IR) 412 KVS-DT, one (1) IR 410 KVG-AK, one (1) IR 83 KVG-NL, and two (2) IR PJUG internal combustion engines. The permit also states that the emission sources at Consolidated Natural Gas Transmission Corporation's Jeannette Station may not operate after December 31, 1998. The PADEP still wishes for EPA to approve for this facility. The emission limits for the engines at this source are as follows: Three (3) IR 412 KVS-DT are subject to NOX limits of 88.19 lbs/hr and 386.3 tpy, and to VOC limits of 7.3 lbs/hr and 32.0 tpy. One (1) IR 410 KVG-AK is subject to NOX limits of 38.80 lbs/hr and 170.0 tpy, and to VOC limits of 4.0 lbs/hr and 17.5 tpy. One (1) IR 83 KVG-NL is subject to NOX limits of 31.04 lbs/hr and 136.0 tpy, and to VOC limits of 3.2 lbs/hr and 14.9 tpy. Two (2) IR PJUG are subject to NOX limits of 10.41 lbs/hr and 45.6 tpy. The permit requires the following sources at the facility to implement SIP-approved presumptive RACT in accordance with 25 PA Code section 129.93(c) (1), and 129.57: One (1) Superior Boiler, Model # 4RG60D, with a 2.14 MMBtu/hr rating, is subject to 25 PA Code section 129.93 (c)(1). One (1) BS&B Heater, Model # 5B-7224-45, with a 4.45 MMBtu/hr rating, is subject to 25 PA Code section 129.93 (c)(1). One (1) Drip Gasoline Storage Tank, with an 8,000 gal rating, is subject to 25 PA Code section 129.57.

For the above sources, Consolidated Natural Gas Transmission Corporation shall operate and maintain the source in accordance with good air pollution control practices. Consolidated Natural Gas Transmission Corporation shall perform a minimum of one stack test in accordance with 25 PA Code Chapter 139, and the PADEP's Source Testing Manual, on all engines to verify the emission rates for NOX, and NMVOC. Testing shall be conducted while engines are operating at full load, full speed, during the ozone season (April to October). All engines operating 750 hours or more during the preceding ozone season shall be stack tested semi-annually to verify the rates of NOX and NMVOC through either an EPA Method stack test or through the use of portable monitors. All engines operating less than 750 hours during the preceding ozone season shall be stack tested annually to verify the rates of NOX and NMVOC through either an EPA Method stack test or through the use of portable monitors. The accuracy of the portable analyzer readings shall be verified during the EPA method stack testing. Consolidated Natural Gas Transmission Corporation shall submit pre-test protocols, notify PADEP in advance of stack testing (so that an observer may be present), and submit two copies of the testing results to PADEP. Consolidated Natural Gas Transmission Corporation shall maintain records for the Jeannette Station in accordance with the record keeping requirements of 25 PA Code section 129.95. At a minimum, the source shall keep records for each engine that include operating hours, daily fuel consumption, operating pressures, and operating temperatures. These records shall be maintained on file at the facility for not less than two years.

All annual limits must be met on rolling monthly basis over every consecutive 12 months. Consolidated Natural Gas Transmission Corporation's Jeannette Station is also subject to additional post-RACT requirements to reduce NOX found at 25 PA Code, Chapters 121, 123 and 145.

(6) Consolidated Natural Gas Transmission Corporation—South Bend Station

Consolidated Natural Gas Transmission Corporation's South Bend Station is located in South Bend Township, Pennsylvania. Consolidated Natural Gas Transmission Corporation's South Bend Station is a major source of NOX and VOC. The PADEP issued OP 03-000-180 to impose RACT on the internal combustion engines at this source. The permit for the South Bend Station requires low emission combustion technology on six (6) Clark HLA-8 internal combustion engines. In accordance with 25 PA Code section 127.441, emission limits for the six engines are as follows: At full load and full speed, the NOX limit on each engine is 3.0 g/bhp-hr and the VOC limits are 6.61 lbs/hr and 29.0 tpy. Under all other conditions, the NOX limits on each engine are 26.46 lbs/hr and 115.9 tpy. Under all other conditions, the VOC limits on each engine are 13.22 lbs/hr and 57.9 tpy. The following sources at the facility must implement SIP-approved presumptive RACT in accordance with 25 PA Code section 129.93: One (1) Caterpillar G3512 engine, with a 814 bhp rating. The applicable RACT emission limit is found at 25 PA Code section 129.93 (c)(5). One (1) IR JVG-6 engine, with a 110 bhp rating. The applicable RACT emission limit is found at 25 PA Code section 129.93(c)(3). One (1) PENNCO Boiler, with a 2.4 MMBtu/hr rating. The applicable RACT emission limit is found at 25 PA Code section 129.93(c)(1). One (1) NATCO Dehydrator, with a 2.14 MMBtu/hr rating. The applicable RACT emission limit is found at 25 PA Code section 129.93(c)(1). The IR JVG-6 engine shall be maintained at four degrees retarded, relative to standard timing in accordance with the above citation. The Caterpillar G3512 engine shall be limited to a maximum of 500 hours of operation in any consecutive 12-month period in accordance with the above citation. Consolidated Natural Gas Transmission Corporation is required to operate and maintain the above sources at the South Bend Station in accordance with good air pollution control practices in accordance with the above citations. Consolidated Natural Gas Transmission Corporation is required to implement RACT in accordance with 25 PA Code section 129.57 for (1) 10,000 gal Drip Gasoline Storage Tank at the facility.

Consolidated Natural Gas Transmission Corporation South Bend is required to perform stack testing in accordance with 25 PA Code section 139 and the PADEP's Source Testing Manual. The permit requires that a minimum of one stack test be performed on each of the Clark HLA-8 engine every five years to verify the emissions rates. Testing shall be conducted while the engines are operating at full load, full speed, during the ozone season (April to October) in accordance with 25 PA Code section 127.441. The permit also requires the source to semi-annually stack test any of the six (6) Clark HLA-8 engines that operate 750 hours or more during the preceding ozone season, either through an EPA method stack test, or through the use of portable analyzers in accordance with 25 PA Code section 127.441. The accuracy of the portable analyzer readings shall be verified during the EPA method stack testing. For those engines that operate less than 750 hour, stack tests shall be conducted annually, as described above. Consolidated Natural Gas Transmission Corporation is required to submit a complete operating procedure to PADEP, in accordance with 25 PA Code section 127.441, as described in the permit. The source is required to submit a pretest protocol, to notify the PADEP (so that an observer may be present), and to supply PADEP with two copies of the stack test results as described in the permit, in accordance with 25 PA Code section 127.441. The source is required to maintain records in accordance with the record keeping requirements of 25 PA Code section 129.95. At a minimum, the source must retain records for each engine for not less than two years, and those records must contain operating hours, daily fuel consumption, and all maintenance and repair operations.

All annual limits must be met on rolling monthly basis over every consecutive 12 months. Consolidated Natural Gas Transmission Corporation's South Bend Station is also subject to additional post-RACT requirements to reduce NOX found at 25 PA Code, Chapters 121, 123 and 145.

(7) Consolidated Natural Gas Transmission Corporation—Oakford Station

Consolidated Natural Gas Transmission Corporation's Oakford Station is located in Salem Township, Pennsylvania. Consolidated Natural Gas Transmission Corporation's Oakford Station is a major NOX and VOC emitting facility. The PADEP issued OP 65-000-837 to impose RACT on the internal combustion engines at this source. Consolidated Natural Gas Transmission Corporation is required to have ignition timing retard technology and INOX plasma ignition systems on twelve (12) Cooper GMW-10TF internal combustion engines, and ignition timing retard technology on two (2) Worthington SEHG-L internal combustion engines at the Oakford Station. Emission limits for the engines under this permit are as follows: Twelve (12) Cooper GMW-10TF internal combustion engines each have NOX limits of 74.41 lbs/hr and 325.9 tpy. The VOC limits for each engine are 1.20 lbs/hr and 5.26 tpy. Two (2) Worthington SEHG-L internal combustion engines each have NOX limits of 28.67 lbs/hr and 125.6 tpy. The VOC limits for each engine are 0.25 lbs/hr and 1.07 tpy. One (1) IR JVG Dehy Engine has NOX limits of 3.88 lbs/hr and 17.0 tpy. The VOC limits are 0.40 lbs/hr, 1.75 tpy. The following sources at the facility must implement SIP-approved presumptive RACT in accordance with 25 PA Code section 129.93: Two (2) Kewanee Boilers, with 16.74 MMBtu/hr rating. The applicable RACT emission limit is found at 25 PA Code section 129.93 (c)(7). One (1) Hot Water Boiler, with a 0.1 MMBtu/hr rating. The applicable RACT emission limit is found at 25 PA Code section 129.93(c)(1). Two (2) NATCO Type WT Process Heaters, with 9.4 MMBtu/hr ratings. The applicable RACT emission limit is found at 25 PA Code section 129.93(c)(1). Seven (7) Drip Gasoline Storage Tanks, (2) with 11,600 gal ratings, (5) with 14,600 gal ratings. The applicable RACT emission limit is found at 25 PA Code section 129.57. Two (2) Methanol Storage Tanks, with 6,000 gal ratings. The applicable RACT emission limit is found at 25 PA Code section 129.57.

All annual limits must be met on rolling monthly basis over every consecutive 12 months. Consolidated Natural Gas Transmission Corporation Oakford is required to operate and maintain the above sources in accordance with good air pollution control practices in accordance with the above citations. Consolidated Natural Gas Transmission Corporation is required to perform stack testing in accordance with 25 PA Code section 139 at the Oakford Station. A minimum of one stack test is required every five years to verify the emission rates for NOX and NMVOC. Testing shall be performed while engines are operating at full load, full speed, during the ozone season (April to October). All engines operating 750 hours or more during the preceding ozone season shall be stack tested semi-annually to verify the rates of NOX and NMVOC through either an EPA Method stack test or through the use of portable monitors. All engines operating less than 750 hours during the preceding ozone season shall be stack tested annually to verify the rates of NOX and NMVOC through either an EPA Method stack test or through the use of portable monitors. The accuracy of the portable analyzer readings shall be verified during the EPA method stack testing. Consolidated Natural Gas Transmission Corporation is required to submit operating procedures for testing protocols, pretest protocols, notice to the PADEP that a stack test is to be performed (so that an observer may be present), and two copies of the stack test results to the PADEP. The source shall maintain record in accordance with the record keeping requirements of 25 PA Code section 129.95. The source shall retain records for at least two years. At a minimum, the source must record operating hours, daily fuel consumption, operating pressures, and operating temperatures for each engine.

Consolidated Natural Gas Transmission Corporation's Oakford Station is also subject to additional post-RACT requirements to reduce NOX found at 25 PA Code, Chapters 121, 123 and 145.

(8) Texas Eastern Transmission Corporation—Uniontown Station Texas

Eastern Transmission Corporation's Uniontown Station is located in North Union Township, Pennsylvania. Texas Eastern Transmission Corporation's Uniontown Station is a major source of NOX and VOC. The PADEP issued OP 26-000-413 to impose RACT on the internal combustion engines at this source. The permit for this facility requires non-selective catalytic reduction on (4) IR KVG-103 rich burn engines, dry low-NOX combustors on (2) Solar Mars turbines, and for the implementation of presumptive RACT on eight ancillary sources at the facility. The hours of operation are limited by this permit as indicated in the following table:

Unit # | Hour of operation per quarter: Jan-Mar | Hour of operation per quarter: Apr-Jun | Hour of operation per quarter: Jul-Sep | Hour of operation per quarter: Oct-Dec | Hour of operation per quarter: Total
1 | 1459 | 1419 | 793 | 1428 | 5099
2 | 1487 | 1607 | 647 | 1360 | 5101
3 | 1458 | 1213 | 1030 | 1400 | 5101
4 | 1560 | 1461 | 815 | 1263 | 5099

The Uniontown Station shall only use low ash lubricating oil (0.5% or less) in the IR KVG-103 engines, and shall continuously monitor and record temperature rise and pressure differential across the catalyst of each engine. The catalytic converter of the engines shall be equipped with a high temperature alarm and/or shutdown set at 1350 degrees Fahrenheit or less. The catalyst on each engine shall be physically inspected annually for physical damage and fouling. A log shall be kept detailing all actions taken to maintain catalyst performance. The file shall be maintained for not less than two years and be made available to PADEP upon request. The source shall continuously monitor and record oz levels prior to the catalyst on each engine, and the source shall maintain oz levels below 0.5% on each engine. The NOX emission limits for each engine are 4.8 lbs/hr and 12.2 tpy. The NMVOC emission limits are 0.5 lbs/hr and 3 tpy. The emission rate for each of the Solar Mars turbines shall be established by stack testing. The hours of operation per year of the Caterpillar 3412 emergency generator shall not exceed 500 hours. The hours of operation per year of the Leroi L3460 emergency generator shall not exceed 500 hours.

The source is required to maintain records in accordance with 25 PA Code section 129.95. At a minimum, the source must keep records of operating hours, daily fuel consumption, operating pressures, and operating temperatures. These records must be kept on file for a period of not less than two years. The source shall perform a minimum of one stack test every five years, in accordance with 25 PA Code Chapter 139, and the PADEP's Source Testing Manual, on all engines to verify the emission rates for NOX, and NMVOC. Testing shall be conducted while engines are operating at full load, full speed, during the ozone season (April to October). All engines operating 750 hours or more during the preceding ozone season shall be stack tested semi-annually to verify the rates of NOX and NMVOC through either an EPA Method stack test or through the use of portable monitors. All engines operating less than 750 hours during the preceding ozone season shall be stack tested annually to verify the rates of NOX and NMVOC through either an EPA Method stack test or through the use of portable monitors. The accuracy of the portable analyzer readings shall be verified during the EPA method stack testing. Texas Eastern Transmission Corporation is required to submit pre-test protocols, notify PADEP in advance of stack testing (so that an observer may be present), and submit a copy of the testing results to PADEP for the Uniontown Station.

All annual limits must be met on rolling monthly basis over every consecutive 12 months. Texas Eastern Transmission Corporation's Uniontown Station is also subject to additional post-RACT requirements to reduce NOX found at 25 PA Code, Chapters 121, 123 and 145.

III. EPA's Evaluation of the SIP Revisions

EPA is approving these RACT SIP submittals because the ACHD and PADEP established and imposed these RACT requirements in accordance with the criteria set forth in the SIP-approved RACT regulations applicable to these sources. The ACHD and PADEP have also imposed record-keeping, monitoring, and testing requirements on these sources sufficient to determine compliance with the applicable RACT determinations.

IV. Final Action

EPA is approving the revisions to the Pennsylvania SIP submitted by PADEP to establish and require VOC and NOX RACT for eight major of sources located in the Pittsburgh area. EPA is publishing this rule without prior proposal because the Agency views this as a noncontroversial amendment and anticipates no adverse comment. However, in the “Proposed Rules” section of today's Federal Register, EPA is publishing a separate document that will serve as the proposal to approve the SIP revision if adverse comments are filed. This rule will be effective on September 27, 2001 without further notice unless EPA receives adverse comment by September 12, 2001. If EPA receives adverse comment, EPA will publish a timely withdrawal in the Federal Register informing the public that the rule will not take effect. EPA will address all public comments in a subsequent final rule based on the proposed rule. EPA will not institute a second comment period on this action. Any parties interested in commenting must do so at this time. Please note that if EPA receives adverse comment on an amendment, paragraph, or section of this rule and if that provision may be severed from the remainder of the rule, EPA may adopt as final those provisions of the rule that are not the subject of an adverse comment.

V. Administrative Requirements

A. General Requirements

Under Executive Order 12866 (58 FR 51735, October 4, 1993), this action is not a “significant regulatory action” and therefore is not subject to review by the Office of Management and Budget. For this reason, this action is also not subject to Executive Order 13211, “Actions Concerning Regulations That Significantly Affect Energy Supply, Distribution, or Use.” See 66 FR 28355, May 22, 2001. This action merely approves state law as meeting Federal requirements and imposes no additional requirements beyond those imposed by state law. Accordingly, the Administrator certifies that this rule will not have a significant economic impact on a substantial number of small entities under the Regulatory Flexibility Act (5 U.S.C. 601 et seq.). Because this rule approves pre-existing requirements under state law and does not impose any additional enforceable duty beyond that required by state law, it does not contain any unfunded mandate or significantly or uniquely affect small governments, as described in the Unfunded Mandates Reform Act of 1995 (Public Law 104-4). This rule also does not have a substantial direct effect on one or more Indian tribes, on the relationship between the Federal Government and Indian tribes, or on the distribution of power and responsibilities between the Federal Government and Indian tribes, as specified by Executive Order 13175 (65 FR 67249, November 9, 2000), nor will it have substantial direct effects on the States, on the relationship between the national government and the States, or on the distribution of power and responsibilities among the various levels of government, as specified in Executive Order 13132 (64 FR 43255, August 10, 1999), because it merely approves a state rule implementing a Federal standard, and does not alter the relationship or the distribution of power and responsibilities established in the Clean Air Act. This rule also is not subject to Executive Order 13045 (62 FR 19885, April 23, 1997), because it is not economically significant. In reviewing SIP submissions, EPA's role is to approve state choices, provided that they meet the criteria of the Clean Air Act. In this context, in the absence of a prior existing requirement for the State to use voluntary consensus standards (VCS), EPA has no authority to disapprove a SIP submission for failure to use VCS. It would thus be inconsistent with applicable law for EPA, when it reviews a SIP submission, to use VCS in place of a SIP submission that otherwise satisfies the provisions of the Clean Air Act. Thus, the requirements of section 12(d) of the National Technology Transfer and Advancement Act of 1995 (15 U.S.C. 272 note) do not apply. As required by section 3 of Executive Order 12988 (61 FR 4729, February 7, 1996), in issuing this rule, EPA has taken the necessary steps to eliminate drafting errors and ambiguity, minimize potential litigation, and provide a clear legal standard for affected conduct. EPA has complied with Executive Order 12630 (53 FR 8859, March 15, 1988) by examining the takings implications of the rule in accordance with the “Attorney General's Supplemental Guidelines for the Evaluation of Risk and Avoidance of Unanticipated Takings” issued under the executive order. This rule does not impose an information collection burden under the provisions of the Paperwork Reduction Act of 1995 (44 U.S.C. 3501 et seq.).

B. Submission to Congress and the Comptroller General

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. Section 804 exempts from section 801 the following types of rules: (1) Rules of particular applicability; (2) rules relating to agency management or personnel; and (3) rules of agency organization, procedure, or practice that do not substantially affect the rights or obligations of non-agency parties. 5 U.S.C. 804(3). EPA is not required to submit a rule report regarding today's action under section 801 because this is a rule of particular applicability establishing source-specific requirements for eight named sources.

C. Petitions for Judicial Review

Under section 307(b)(1) of the Clean Air Act, petitions for judicial review of this action must be filed in the United States Court of Appeals for the appropriate circuit by October 12, 2001. Filing a petition for reconsideration by the Administrator of this final rule does not affect the finality of this rule for the purposes of judicial review nor does it extend the time within which a petition for judicial review may be filed, and shall not postpone the effectiveness of such rule or action. This action approving the Commonwealth's source-specific RACT requirements to control VOC and NOX from eight individual gas compressor stations in the Pittsburgh area may not be challenged later in proceedings to enforce its requirements. (See section 307(b)(2).)

List of Subjects in 40 CFR Part 52

Environmental protection, Air pollution control, Hydrocarbons, Incorporation by reference, Nitrogen Oxides, Ozone, Reporting and recordkeeping requirements.

Dated: August 3, 2001.
Thomas C. Voltaggio,
Deputy Regional Administrator, Region III.

40 CFR part 52 is amended as follows:

PART 52—[AMENDED]

1. The authority citation for Part 52 continues to read as follows:

Authority: 42 U.S.C. 7401 et seq.

Subpart NN—Pennsylvania

2. Section 52.2020 is amended by adding paragraph (c)(164) to read as follows:

§ 52.2020 Identification of plan.

* * * * *

(c) * * *

(164) Revisions to the Pennsylvania Regulations, Chapter 129 pertaining to VOC and NOX RACT, submitted by the Pennsylvania Department of Environmental Protection on August 1, 1995, December 8, 1995, April 16, 1996, July 1, 1997, July 2, 1997, January 21, 1997, and February 2, 1999.

(i) Incorporation by reference.

(A) Letters submitted by the Pennsylvania Department of Environmental Protection dated August 1, 1995, December 8, 1995, April 16, 1996, July 1, 1997, July 2, 1997, January 21, 1997, and February 2, 1999, transmitting source-specific RACT determinations.

(B) The following companies' Operating Permits (OP) or Enforcement Order (EO):

(1) Consolidated Natural Gas Transmission Corporation, Beaver Station, OP 04-000-490, effective June 23, 1995.

(2) Consolidated Natural Gas Transmission Corporation, Oakford Station, OP 65-000-837, effective October 13, 1995.

(3) Consolidated Natural Gas Transmission Corporation, South Oakford Station, OP 65-000-840, effective October 13, 1995.

(4) Consolidated Natural Gas Transmission Corporation, Tonkin Station, OP 65-000-634, effective October 13, 1995.

(5) Consolidated Natural Gas Transmission Corporation, Jeannette Station, OP 65-000-852, effective October 13, 1995.

(6) Carnegie Natural Gas Company, Creighton Station, EO 213, effective May 14, 1996, except for condition 2.7.

(7) Texas Eastern Transmission Corporation, Uniontown Station, OP 26-000-413, effective December 20, 1996.

(8) Consolidated Natural Gas Transmission Corporation, South Bend Station, OP 03-000-180, effective December 2, 1998.

(ii) Additional Materials—Other materials submitted by the Commonwealth of Pennsylvania in support of and pertaining to the RACT determinations for the sources listed in (i) (B), above.

[FR Doc. 01-20378 Filed 8-10-01; 8:45 am]

BILLING CODE 6560-50-P